DEPARTMENT OF ENERGY

Federal Energy Regulatory Commission

[Docket No. RD20-1-000]

Commission Information Collection Activities (FERC-725G); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection FERC-725G (Mandatory Reliability Standards for the Bulk-Power System: PRC Standards: Regional Reliability Standard PRC-006-NPCC-2 Automatic Underfrequency Load-Shedding (UFLS)) and submitting the information collection to the Office of Management and Budget (OMB) for review. Any interested person may file comments directly with OMB and should address a copy of those comments to the Commission as explained below.

DATES: Comments on the collection of information are due May 11, 2020.

ADDRESSES: Comments filed with OMB, identified by OMB Control No. 1902-0252, should be sent via email to the Office of Information and Regulatory Affairs: oira_submission@omb.gov. Attention: Federal Energy Regulatory Commission Desk Officer.

A copy of the comments should also be sent to the Commission, in Docket No. RD20-1-000, by either of the following methods:

• eFiling at Commission's Website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-725G (Mandatory Reliability Standards for the Bulk-Power System: Regional Reliability Standard PRC-006-NPCC-2, Automatic Underfrequency Load-Shedding (UFLS).

OMB Control No.: 1902-0252.

Type of Request: Revisions to the information collection, as discussed in Docket No. RD20-1-000.

Abstract: The proposed regional Reliability Standard applies to generator owners, planning coordinators, distribution providers, and transmission owners in the Northeast Power Coordinating Council Region and is designed to ensure the development of an effective automatic underfrequency load shedding (UFLS) program to preserve the security and integrity of the Bulk-Power System during declining system frequency events in coordination with the NERC continent-wide UFLS Reliability Standard PRC-006-1. The Commission also proposes to approve the related violation risk factors, violation severity levels, implementation plan, and effective date proposed by NERC.

On August 8, 2005, Congress enacted into law the Electricity Modernization Act of 2005, which is Title XII, Subtitle A, of the Energy Policy Act of 2005 (EPAct 2005).¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law No. 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

On December 23, 2019, the North American Electric Reliability Corporation (NERC) and Northeast Power Coordinating Council, Inc. (NPCC) filed a joint petition seeking approval of proposed regional Reliability Standard PRC-006-NPCC-2 (NPCC Automatic Underfrequency Load Shedding). NERC and NPCC state that regional Reliability Standard PRC-006-NPCC-2 establishes consistent and coordinated requirements for the design, implementation, and analysis of automatic underfrequency load shedding (UFLS) programs among all NPCC applicable entities. These requirements are more stringent and specific than the NERC continent-wide UFLS Reliability Standard, PRC-006-3, and were established such that the declining frequency is arrested and recovered in accordance with NPCC performance requirements. NPCC revised currently effective Regional Reliability Standard PRC-006-NPCC-1 to remove redundancies with the Reliability Standard PRC-006-3, clarify obligations for registered entities, improve communication of island boundaries to affected registered entities, and provide entities with the flexibility to calculate net load shed for UFLS in certain situations.

On February 19, 2020, the Commission issued a Delegated Letter Order, Docket No. RD20-1-000, approving proposed Reliability Standard PRC-006-NPCC-2, the associated VRFs and VSLs, the Effective Date, and the retirement of the currently effective Regional Reliability Standard PRC-006-NPCC-1. The effective date for Reliability Standard PRC-006-NPCC-2 is as of the date of this order, January 18, 2020.

Type of Respondents: Generator owners, planning coordinators, distribution providers, and transmission owners in the Northeast Power Coordinating Council (NPCC) Region.

Estimate of Annual Burden: ⁵ Our estimates are based on the NERC Compliance Registry Summary of Entities as of January 31, 2019. According to the NERC compliance registry, and Functions as of, which indicates there are registered as GO, PC, DP and TO entities.

⁵ Burden is defined as the total time, effort, or financial resources expended by persons to generate, maintain, retain, or disclose or provide information to or for a federal agency. See 5 CFR 1320 for additional information on the definition of information collection burden.

The individual burden estimates are based on the time needed to gather data, run studies, and analyze study results to design or update the underfrequency load shedding programs. Additionally, documentation and the review of underfrequency load shedding program results by supervisors and management is included in the administrative estimations. These are consistent with estimates for similar tasks in other Commission approved standards.

Estimates for the additional burden and cost imposed by the order in Docket No. RD20-1-000 follow:

Commission estimates the annual burden and cost ⁶ as follows. Burden and cost for the information collection as follows:

⁶ The Commission staff estimates that industry is similarly situated in terms of hourly cost (for wages plus benefits). Based on the Commission's FY (Fiscal Year) 2019 average cost (for wages plus benefits), $80.00/hour is used.

RD20-1-000—Mandatory Reliability Standards for the Bulk-Power System: Regional Reliability Standard PRC-006-NPCC-2 Automatic Underfrequency Load Shedding
[UFLS]
Reliability standard & requirement | Average annual number ¹ of respondents | Average annual number of responses per respondent | Average annual total number of responses | Average burden hrs. & cost ($) per response | Total annual burden hours & cost ($) (rounded) | Cost per respondent ($)
| (1) | (2) | (1) * (2) = (3) | (4) | (3) * (4) = (5) | (5) ÷ (1)
GO | 125 | 1 | 125 | 24 hrs.; $80 | 3,000 hrs.; $10,000 | $80
PC | 2 | 1 | 2 | 24 hrs.; $80 | 48 hrs.; $160 | $80
DP | 51 | 1 | 51 | 24 hrs.; $80 | 1,224 hrs.; $4,080 | $80
TO | 39 | 1 | 39 | 24 hrs.; $80 | 936 hrs.; $3,120 |
Total |  |  |  |  | 5,208 hrs.; $17,360 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 5, 2020.
Kimberly D. Bose,
Secretary.

[FR Doc. 2020-04953 Filed 3-10-20; 8:45 am]

BILLING CODE 6717-01-P